SECURITIES AND EXCHANGE COMMISSION

[Release No. 35-27260]

Filings Under the Public Utility Holding Company Act of 1935, as Amended (“Act”)

October 24, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by November 20, 2000, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After November 20, 2000, the application(s) and/or declaration(s), as filed or as amended, may be granted and/or permitted to become effective.

GPU, Inc., et al. (70-7727)

GPU, Inc. (“GPU”), a registered holding company located at 300 Madison Avenue, Morristown, New Jersey 07960, GPU International, Inc. (“GPUI”), a non-utility subsidiary of GPU, and its nonutility subsidiaries Elmwood Energy Corporation, Geddes II Corporation, Geddes Cogeneration Corporation, EI Selkirk, Inc., EI Canada Holding Limited, EI Services Canada Limited, EI Brooklyn Power Limited, NCP Energy, Inc., NCP Lake Power Inc., NCP Gem, Inc., Lake Investment, L.P., NCP Pasco, Inc., NCP Dade Power, Inc., Dade Investment, L.P., NCP Houston Power, Inc., NCP Perry Inc., NCP New York Inc., GPU Generation Services—Pasco, Inc., GPU Generation Services—Lake, Inc., GPUI Lake Holdings, Inc., EI Fuels Corporation, EI Services, Inc., NCP Ada Power, Inc., NCP Commerce Power, Inc., Umatilla Groves, Inc., NCP Brooklyn Power, Inc., Armstrong Energy Corporation, GPU Power, Inc., Guaracachi America, Inc., EI Barranquilla, Inc., Barranquilla Lease Holdings, Inc., EI International, Los Amigos Leasing Company, Ltd., GPUI Colombia, Ltda., International Power Advisors, Inc., Hanover Energy Corporation, Austin Cogeneration Corporation, Austin Cogeneration Partners, L.P., GPU Power Philippines, GPU International Asia, Inc., GPU Power Ireland, Inc., EI Brooklyn Investments Limited, and GPU Mississippi Energy, Inc., all located at One Upper Pond Road, Parsippany, New Jersey 07054, have filed a post-effective amendment under sections 6(a), 7, 12(b), 32, and 33 of the Act and rule 45(a) under the Act to a previously filed application-declaration.

By orders dated November 16, 1995 (HCAR No. 26409), June 14, 1995 (HCAR No. 26307), December 28, 1994 (HCAR 26205), September 12, 1994 (HCAR No. 26123), December 18, 1992 (HCAR No. 25715), and June 26, 1990 (HCAR No. 25108) (collectively, “Prior Orders”), GPUI is authorized to engage in preliminary project development and administrative activities (“Project Activities”) for its investments in qualifying facilities, exempt wholesale generators (“EWGs”), and foreign utility companies (“FUCOs”). Under the terms of the Prior Orders, GPU is authorized to provide guarantees and other forms of credit support in connection with the obligations of GPUI or its subsidiaries, guarantee the securities and other obligations of EWGs and FUCOs, and assume the liabilities of these entities (collectively, “GPU Authority”). The GPU Authority is for an aggregate amount of up to $500 million.

By order dated December 22, 1997 (HCAR No. 26802) (“1997 Order”), GPUI is authorized to provide guarantees and assume liabilities of EWGs and FUCOs (collectively, “GPUI Authority”) in an aggregate amount of up to $150 million (“GPUI Limit”). In addition, GPUI subsidiaries that are not EWGs or FUCOs are authorized, under the terms of the 1997 Order, to guarantee obligations of their direct or indirect subsidiaries (“GPUI Subsidiaries' Authority”). The GPUI Authority and the GPUI Subsidiaries' Authority are for guarantees and other credit support arrangements not exempt under rules 45 and 52 under the Act, and the GPUI Subsidiaries' Authority is subject to the GPUI Limit.

The GPU Authority, GPUI Authority, and GPUI Subsidiaries' Authority (collectively, “Previous Authorizations”) expire on December 31, 2000. Applicants request that the Commission extend the duration of the Previous Authorizations through June 30, 2004.

American Electric Power Co., et al. (70-8205)

American Electric Power Company, Inc. (“AEP”), a registered holding company, Central and South West Corporation (“CSW”), a registered holding company that is a wholly owned subsidiary of AEP, and CSW Energy, Inc. (“CSW Energy”), a wholly owned non-utility subsidiary of CSW, all located at 1 Riverside Plaza, Columbus, Ohio 43215, have filed a post-effective amendment to their application under section 12(b) of the Act and rule 45(a) under the Act.

By order dated November 28, 1995 (HCAR No. 26416), the Commission authorized CSW and CSW Energy to issue letters of credit, bid bonds or guarantees (collectively, “Guarantees”) in connection with the development of qualifying cogeneration facilities, qualifying small power production facilities and independent power facilities (“Facilities”), including exempt wholesale generators as defined in section 32(e) of the Act, in an aggregate amount not to exceed $75 million (“Guarantee Limit”).

Applicants now request authority to issue Guarantees through March 31, 2006 in amounts that would not, in the aggregate, exceed the Guarantee Limit. Applicants state that this expanded authority is necessary to enable AEP, CSW, CSW Energy and other AEP subsidiaries to continue and to diversify the development program with respect to Facilities.

GPU, Inc., et al. (70-8593)

GPU, Inc. (“GPU”), a registered holding company, its nonutility subsidiaries GPU Service, Inc., GPU Capital, Inc., GPU Electric, Inc., Victoria Electric Holdings, Inc., El UK Holdings, Inc., Avon Energy Partners Holdings, Avon Energy Partners plc, GPU Australia Holding, Inc., Austran Holdings, Inc., VicGas Holdings, Inc., GPU Argentina Holdings, Inc., GPU Argentina Services Ltd., GPU International Australia Pty Ltd., and GPU Brasil, Inc., all located at 300 Madison Avenue, Morristown, New Jersey 07960; GPU's public utility subsidiaries, Jersey Central Power & Light Company, Metropolitan Edison Company, and Pennsylvania Electric Company (collectively, “Applicants”), whose mailing address is P.O. Box 16001, Reading, Pennsylvania 19640; and GPU International, Inc., El Services, Inc., Geddes II Corporation, Geddes Cogeneration Corporation, El Selkirk, Inc., El Canada Holding Limited, El Brooklyn Power Limited, El Services Canada Limited, NCP Houston Power, Inc., NCP Perry, Inc., GPU Power, Inc., Guaracachi America, Inc., El Barranquilla, Inc., Barranquilla Lease Holdings, Inc., El International, Los Amigos Leasing Company, Ltd., GPUI Colombia, Ltda., International Power Advisors, Inc., Hanover Energy Corporation, Austin Cogeneration Corporation, Austin Cogeneration Partners, L.P., GPU Power Philippines, GPU International Asia, Inc., and GPU Power Ireland, Inc., all nonutility subsidiaries of GPU, all located at One Upper Pond Road, Parsippany, New Jersey 07960, have filed a post-effective amendment under sections 6(a), 7, 9(a), 10, 12, 32, and 33 of the Act and rules 43, 45, and 54 under the Act to a previously filed declaration-application.

GPU is currently authorized by order dated December 22, 1997 (HCAR No. 26800) (“Prior Order”) to finance investments, through December 31, 2000 (“Authorization Period”), of up to 100% of its consolidated retained earnings in exempt wholesale generators and foreign utility companies (collectively, “Exempt Entities”),¹ and in other subsidiaries that are not Exempt Entities, but are exclusively engaged, directly or indirectly, in the business of owning and holding ownership interests in Exempt Entities and of engaging in related project development activities (“Project Parents”).² The Commission also authorized Project Parents in the Prior Order to guarantee or assume liabilities with respect to securities issued by, or other obligations of, their direct or indirect subsidiaries through the Authorization Period,³ to the extent these guarantees are not exempt under rules 45 and 52 under the Act, in an aggregate amount outstanding at any one time not to exceed $1 billion.

¹ Investments in Exempt Entities may take the form of: guarantees of indebtedness or other obligations of Exempt Entities; assumptions of liability of Exempt Entities; and guarantees and letter of credit reimbursement agreements in support of equity contribution obligations or otherwise in connection with project development activities of Exempt Entities.

² Investments in Project Parents may take the form of cash capital contributions or open account advances; promissory notes; guarantees of the principal of or interest on promissory notes or other evidence of indebtedness or obligations of a Project Parent; undertakings to contribute equity to a Project Parent; and assumptions of a Project Parent's liability.

³ These guarantees include support instruments or bank letter of credit reimbursement agreements or similar instruments or undertakings.

Applicants seek to extend the Authorization Period to engage in these transactions until June 30, 2003.

For the Commission, by the Division of Investment Management, under delegated authority.
Margaret H. McFarland,
Deputy Secretary.

[FR Doc. 00-27859 Filed 10-30-00; 8:45 am]

BILLING CODE 8010-01-M